DEPARTMENT OF DEFENSE

Office of the Secretary

Defense Science Board; Notice of Federal Advisory Committee Meeting

AGENCY: Department of Defense.

ACTION: Notice of Federal Advisory Committee meeting.

SUMMARY: This notice is to announce that the following meetings of the Defense Science Board (DSB) and the 2017 DSB Summer Study Task Force on Countering Anti-access Systems with Longer Range and Standoff Capabilities (“the Long Range Effects 2017 Summer Study Task Force”) will meet in closed session.

DATES: The Defense Science Board 2017 Defense Science Board (DSB) Summer Study Task Force on Countering Antiaccess Systems with Longer Range and Standoff Capabilities will meet from July 31 to August 4, 2017, from 8:30 a.m. to 5:00 p.m.; and August 7 to August 10, 2017, from 8:30 a.m. to 5:00 p.m. The Defense Science Board will meet on August 9, 2017, from 11:00 a.m. to 1:00 p.m. and August 11, 2017, from 9:30 a.m. to 12:00 p.m.

ADDRESSES: Arnold and Mabel Beckman Center of the National Academies of Sciences and Engineering, 100 Academy Way, Irvine, CA 92617.

FOR FURTHER INFORMATION CONTACT: Defense Science Board Designated Federal Officer (DFO) Ms. Karen D.H. Saunders, (703) 571-0079 (Voice), (703) 697-1860 (Facsimile), karen.d.saunders.civ@mail.mil (Email). Mailing address is Defense Science Board, 3140 Defense Pentagon, Room 3B888A, Washington, DC 20301-3140. Web site: http://www.acq.osd.mil/dsb/. The most up-to-date changes to the meeting agenda can be found on the Web site.

SUPPLEMENTARY INFORMATION: Due to circumstances beyond the control of the Designated Federal Officer and the Department of Defense, the Defense Science Board was unable to provide public notification concerning its meeting on August 9 and August 11, 2017, of the Defense Science Board as required by 41 CFR 102-3.150(a). Accordingly, the Advisory Committee Management Officer for the Department of Defense, pursuant to 41 CFR 102-3.150(b), waives the 15-calendar day notification requirement.

Due to circumstances beyond the control of the Designated Federal Officer and the Department of Defense, the Defense Science Board was unable to provide public notification concerning its meeting on July 31, 2017 through August 4, 2017, and August 7 through August 10, 2017, of the Defense Science Board 2017 Summer Study Task Force on Countering Anti-access Systems with Longer Range and Standoff Capabilities, as required by 41 CFR 102-3.150(a). Accordingly, the Advisory Committee Management Officer for the Department of Defense, pursuant to 41 CFR 102-3.150(b), waives the 15-calendar day notification requirement.

This meeting is being held under the provisions of the Federal Advisory Committee Act (FACA) of 1972 (5 U.S.C., Appendix, as amended), the Government in the Sunshine Act of 1976 (5 U.S.C. 552b, as amended), and 41 CFR 102-3.140 and 102-3.150.

The mission of the DSB is to provide independent advice and recommendations on matters relating to the Department of Defense's (DoD) scientific and technical enterprise. The objective of the Long Range Effects 2017 Summer Study Task Force is to explore new defense systems and technologies that will enable cost effective power projection that relies on the use of longer stand-off distances than current capabilities. System components may be deployed on manned or unmanned platforms with a range of potential autonomous capabilities. Use of cost reducing technology and advanced production practices from defense and commercial industry may be a major part of the strategy for deploying adequate numbers of weapons. This nine-day session will focus on coalescing all the information from briefings presented during the January, February, March, April, May, June and July meetings of the Long Range Effects 2017 Summer Study Task Force. The four panels (Architecture; Intelligence, Surveillance, and Reconnaissance; Basing, Delivery, and Weapons; and Command, Control, Communications, and Cyber) will meet simultaneously to discuss topics and analyze data in support of the study.

Additionally, the DSB members will attend a working luncheon on August 9, 2017, from 11:00 a.m. to 1:00 p.m. to deliberate and vote on the findings and recommendations from the 2017 DSB Summer Study on Long Range Effects, and on August 11, 2017, from 9:30 a.m. to 12:00 p.m. to present the final outbriefing of the Long Range Effects 2017 Summer Study Task Force to DoD senior leaders.

In accordance with section 10(d) of the FACA and 41 CFR 102-3.155, the DoD has determined that the Defense Science Board and the Long Range Effects 2017 Summer Study Task Force meetings will be closed to the public. Specifically, the Under Secretary of Defense (Acquisition, Technology, and Logistics), in consultation with the DoD Office of General Counsel, has determined in writing that the DSB meetings and the Long Range Effects 2017 Summer Study Task Force meeting will be closed to the public because matters covered by 5 U.S.C. 552b(c)(1) will be considered. The determination is based on the consideration that it is expected that discussions throughout the DSB meetings and the Long Range Effects 2017 Summer Study Task Force meeting will involve classified matters of national security concern. Such classified material is so intertwined with the unclassified material that it cannot reasonably be segregated into separate discussions without defeating the effectiveness and meaning of the overall meetings. To permit the meetings to be open to the public would preclude discussion of such matters and would greatly diminish the ultimate utility of the DSB's findings and recommendations to the Secretary of Defense and to the Under Secretary of Defense for Acquisition, Technology, and Logistics.

In accordance with section 10(a)(3) of the FACA and 41 CFR 102-3.105(j) and 102-3.140, interested persons may submit a written statement for consideration by the Long Range Effects 2017 Summer Study Task Force members at any time regarding its mission or in response to the stated agenda of a planned meeting. Individuals submitting a written statement must submit their statement to the DSB's DFO—Ms. Karen D.H. Saunders, Executive Director, Defense Science Board, 3140 Defense Pentagon, Room 3B888A, Washington, DC 20301, via email at karen.d.saunders.civ@mail.mil or via phone at (703) 571-0079 at any point; however, if a written statement is not received at least 3 calendar days prior to the meeting, which is the subject of this notice, then it may not be provided to or considered by the Long Range Effects 2017 Summer Study Task Force. The DFO will review all submissions with the Long Range Effects 2017 Summer Study Task Force Co-Chairs and ensure they are provided to Long Range Effects 2017 Summer Study Task Force members prior to the beginning of this nine-day meeting on July 31, 2017.

Dated: August 2, 2017.
Aaron Siegel,
Alternate OSD Federal Register Liaison Officer, Department of Defense.

[FR Doc. 2017-16633 Filed 8-7-17; 8:45 am]

BILLING CODE 5001-06-P